DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on 2/15/01, pages 10558-10559.

DATES: Comments must be submitted on or before June 7, 2001. A comment to OMB is most effective if OMB receives it within 30 days of publication.

FOR FURTHER INFORMATION CONTACT: Judy Street on (202) 267-9895.

SUPPLEMENTARY INFORMATION:

Federal Aviation Administration (FAA)

Title: Certificate: Mechanics, Repairmen, Parachute Riggers, and Inspection Authorizations—FAR Part 65.

Type of Request: Extension of a currently approved collection.

OMB Control Number: 2120-0022.

Forms(s): FAA Forms 8610-1 and 8610-2.

Affected Public: An estimated 34,970 applicants.

Abstract: 14 CFR part 65 prescribes rules governing the issuance of certificates and associated rating for mechanics, repairmen, parachute riggers, and the issuance of inspection authorizations.

Estimated Annual Burden Hours: 34,432 hours annually.

ADDRESSES: Send comments to the Office of Information and Regulatory Affairs, Office of Management and Budget, 725 17th Street, NW, Washington, DC 20503, Attention FAA Desk Officer.

Comments are invited on: Whether the proposed collections of information are necessary for the proper performance of the functions of the Department, including whether the information will have practical utility; the accuracy of the Department's estimates of the burden of the proposed information collections; ways to enhance the quality, utility and clarity of the information to be collected; and ways to minimize the burden of the collection of information on respondents, including the use of automated collection techniques or other forms of information technology.

Issued in Washington, DC, on May 1, 2001.
Steve Hopkins,
Manager, Standards and Information Division, APF-100.

[FR Doc. 01-11469 Filed 5-7-01; 8:45 am]

BILLING CODE 4910-13-M